DEPARTMENT OF COMMERCE

National Oceanic and Atmospheric Administration

[I.D. 091002B]

Mid-Atlantic Fishery Management Council; Public Meetings

AGENCY: National Marine Fisheries Service (NMFS), National Oceanic and Atmospheric Administration (NOAA), Commerce.

ACTION: Notice of public meeting.

SUMMARY: The Mid-Atlantic Fishery Management Council (Council) and its Executive Committee, Ecosystems Planning Committee, and Law Enforcement Committee (with Advisor) will hold a public meeting. There will also be a meeting of the Joint Mid-Atlantic Fishery Management Council and New England Fishery Management Council Spiny Dogfish Committee.

DATES: The meetings will be held on Monday, September 30, 2002 through Thursday, October 3, 2002. See SUPPLEMENTARY INFORMATION for specific dates and times.

ADDRESSES: The meetings will be held at the Holiday Inn Select, 630 Naamans Road, Claymont, DE, telephone: 302-792-2700.

Council address: Mid-Atlantic Fishery Management Council, 300 S. New Street, Dover, DE 19904, telephone: 302-674-2331.

FOR FURTHER INFORMATION CONTACT: Daniel T. Furlong, Executive Director, Mid-Atlantic Fishery Management Council; telephone: 302-674-2331, ext. 19.

SUPPLEMENTARY INFORMATION: On Tuesday, October 1, the Executive Committee will meet from 1 p.m. to 4 p.m. New Member Orientation will be held from 4 p.m. to 4:30 p.m. On Wednesday, October 2, the Council will convene at 8 a.m. with the swearing-in of new Council members and the election of officers (chairman and vice chairman). Spiny dogfish actions regarding Amendment 1 and management measures for the 2003/04 fishing year will be discussed from 8:30 a.m. to 11:30 a.m. Monkfish issues and input regarding proposed changes to the current permit moratorium will be discussed from 11:30 a.m. until noon. The Ecosystems Planning Committee will meet from 1 p.m. to 3 p.m. The Enforcement Committee with its Advisors will meet from 3 p.m. to 5 p.m. On Thursday, October 3, the Council will meet from 8 a.m. until 4 p.m. to conduct its routine business.

Agenda items for the Council's committees and the Council itself are: the Executive Committee will review/approve previously addressed Statement of Operating Practices and Procedures (SOPPs), review draft 2003 annual work plan, and review 2003 grant application if available; the Council will review and discuss the Joint Spiny Dogfish Committee's actions regarding Amendment 1 to the Spiny Dogfish Fishery Management Plan (FMP), review and discuss the Joint Spiny Dogfish Committee's recommendations on dogfish management measures for the 2003/04 fishing year, and adopt management measures for the 2003/04 fishing year; the Council will review monkfish comments received during the supplemental scoping hearings and discuss potential impacts of proposed changes to permit moratorium for monkfish; the Ecosystems Planning Committee will discuss the feasibility of developing and adopting a universal saltwater fishing license; and, discuss and determine research set-aside priorities for 2004; the Enforcement Committee with Advisors will discuss and evaluate the enforceability of at-sea transfer of catch should such a measure be adopted, and review post September 11 enforcement actions and their impacts on marine resources regulations; there will be a presentation on the historical fisheries of the Delaware River and Bay by the U.S. Fish and Wildlife Service; the Council will discuss during meeting one of Framework 3 to the Squid, Mackerel, Butterfish FMP extending the Illex limited access moratorium for two years; the Council will also receive and discuss organizational and committee reports including the New England Council's report regarding possible actions on herring, groundfish, monkfish, red crab, scallops, skates, and whiting; and, act on any continuing and/or new business. Under Continuing and New Business, the council will review and recommend the research set-aside quota level for the 2003 tilefish fishery.

In conjunction with but separate from this Council meeting, there will be a Joint Dogfish Committee meeting on Monday, September 30 from 10 a.m. to 4 p.m., to review updated fisheries and stock assessment information, develop 2003/04 management measures, and discuss Amendment 1 to the Spiny Dogfish FMP. Likewise, there will be two public hearings in conjunction with but separate from this Council meeting. On Tuesday evening, October 1, from 7 p.m. to 9 p.m. the New England Fishery Management Council will conduct a public hearing on its Skate FMP. This public hearing will be held to solicit comments on the Draft Skate FMP and Draft Environmental Impact Statement (EIS). The Draft Skate FMP proposes several alternatives to address the management of the seven species of skates in the Northeast Region skate complex. Written comments will be accepted until October 15, 2002. Please forward comments to Paul Howard, Executive Director, New England Fishery Management Council, 50 Water Street, The Tannery - Mill 2, Newburyport, MA 01950.

On Wednesday evening, October 2 from 7 p.m. to 9 p.m., the Mid-Atlantic Fishery Management Council will conduct a public hearing on Amendment 13 to its Surfclam and Ocean Quahog FMP. Amendment 13 addresses five major issues: (1) A new surfclam overfishing definition, (2) fishing gear impacts to essential fish habitat (EFH), (3) multi-year quotas, (4) suspension of the surfclam minimum size limit, and (5) a vessel monitoring type system. The intended effect of this action is to alert interested public of the commencement of this hearing process to provide for public participation. Written comments will be accepted until October 15, 2002. Please forward comments to Daniel T. Furlong, Executive Director, Mid-Atlantic Fishery Management Council, 300 S. New Street, Room 2115, Dover, DE 19904.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council's intent to take final actions to address such emergencies.

Special Accommodations

This meeting is physically accessible to people with disabilities. Requests for sign language interpretation or other auxiliary aids should be directed to Joanna Davis at least 5 days prior to the meeting date.

Dated: September 11, 2002
Richard W. Surdi,
Acting Director, Office of Sustainable Fisheries, National Marine Fisheries Service

[FR Doc. 02-23501 Filed 9-13-02; 8:45 am]

BILLING CODE 3510-22-S